DEPARTMENT OF THE INTERIOR

Bureau of Land Management

[WO-320-1990-05-24 1A]

Mining Claim and Site Maintenance and Location Fees

AGENCY: Bureau of Land Management, Interior.

ACTION: Restoration of location and maintenance fees.

SUMMARY: The Bureau of Land Management (BLM) is publishing this notice to advise the mining community that the location fee for newly located mining claims or sites has been restored from $25 to $30 per mining claim or site. In addition, the annual maintenance fee has been restored from $100 to $125 per mining claim or site. BLM reduced the fees on December 8, 2004, as directed by statute. The statute further provided that the fees would return to their formerly increased levels when BLM had met certain conditions. These conditions have now been met and the fees have returned to the levels that are reflected in the regulations found at 43 CFR 3830.21 (2004). Mining claim holders must pay a $30 location fee and a $125 maintenance fee for all mining claims and sites recorded on or after June 30, 2005. In addition, the annual maintenance fee due September 1, 2005, is $125 per mining claim or site, as reflected in the current regulations.

DATES: Effective Date: The fees that are listed in 43 CFR 3830.21 (2004) are again effective as of June 30, 2005.

ADDRESSES: You may mail suggestions or inquiries to Bureau of Land Management, Solid Minerals Group, Room 501 LS, 1849 C Street NW., Washington, DC 20240-0001.

FOR FURTHER INFORMATION CONTACT: Roger Haskins in the Solid Minerals Group at (202) 452-0355. For assistance in reaching Mr. Haskins, persons who use a tele-communications device for the deaf (TDD) may call the Federal Information Relay Service at 1-(800) 877-8339, 24 hours a day, 7 days a week.

SUPPLEMENTARY INFORMATION: On July 1, 2004, the Department of the Interior adjusted the location and maintenance fees for mining claims and sites based upon the Consumer Price Index (CPI), as required by the Mining Law. See 69 FR 40,294. The Department increased the location fee from $25 to $30 and increased the annual maintenance fee from $100 to $125. The Interior and Related Agencies Appropriations Act for fiscal year 2005, Division E, Title I, Section 120 of Public Law 108-447 of December 8, 2004, directed the Department of the Interior to roll back these location and maintenance fees for mining claims and sites to their pre-July 2004 level. This meant that, as of December 8, 2004, the location fee was rolled back from $30 to $25 per new location and the annual maintenance fee was rolled back from $125 to $100 per mining claim or site. However, the 2005 Appropriations Act also provided that the fees would return to their increased levels when the Department met certain conditions, including establishing a plan of operations tracking system and filing a report with Congress regarding the length of time it takes the Department to approve proposed mining plans of operations and recommending steps to reduce current delays. The Department met these conditions on June 30, 2005. Therefore, in accordance with the terms of the 2005 Appropriations Act, the fees have returned to the rates established in 2004. Mining claim holders must pay a $30 location fee and a $125 maintenance fee for all mining claims and sites recorded on or after June 30, 2005. In addition, the annual maintenance fee due September 1, 2005, is $125 per mining claim or site. The complete listing of fees and service charges may be found at 43 CFR 3830.21 (2004).

Under the regulations at 43 CFR 3834.23(c), if a mining claimant timely pays pre-increase fees, the BLM will provide notice to the claimant and an opportunity to pay the difference. Although the fee increase addressed by this notice was not directly a CPI-based increase, the 2004 increase that has been restored was CPI-based. Therefore, we believe that the cure provisions of the rule will apply if a claimant timely pays $100 for a claim on or before September 1, 2005. However, the BLM will issue an additional rule before September 1, 2005, further clarifying that mining claimants may cure the filing of an insufficient payment of fees when the fees have changed through means other than a CPI adjustment, as was the case here.

Kathleen Clarke,
Director, Bureau of Land Management.

[FR Doc. 05-13070 Filed 6-30-05; 8:45 am]

BILLING CODE 4310-84-P